DEPARTMENT OF COMMERCE

National Oceanic and Atmospheric Administration

Office of Ocean.US Integrated Ocean Observing System (IOOS) Industry Day

AGENCY: National Ocean Service, NOAA, Department of Commerce.

ACTION: Notice of opportunity to attend.

SUMMARY: The Office of Ocean.US announces the opportunity to attend a briefing for interested organizations concerning plans to design, develop, fabricate, install and operate the Integrated Ocean Observing System (IOOS). The IOOS is in the exploratory planning phase and all interested parties are invited to provide input, ideas, concepts and suggestions toward ensuring its effective development.

DATES: March 18, 2005.

ADDRESSES: Hall of Flags, at the US Chamber of Commerce Bldg. located near the White House at 1615 H Street NW., Washington, DC 20062-2000. Admission is controlled and the material to be presented will be unclassified.

FOR FURTHER INFORMATION CONTACT: For further information regarding this Industry Day, contact Andy Clark at a.clark@ocean.us or (703) 588-0846. To attend this event, phone or fax requests for registration material to: Mr. Gil Donohue, PH: (703) 442-7727; FX: (703) 442-8199. Include names of all attendees (3 maximum). Attendance is limited to three per company/organization. Suggested attendees: Senior Technologist, Business Development, Government Relations. Upon receipt of the completed IOOS Registration Package, potential attendees will receive a confirmation notice and other relevant information. Interested parties are reminded that no one will be admitted to the industry brief without this confirmation. Requests to attend this briefing must be received no later than 1600 EDT Friday 11 March 2005. Only individuals who have submitted their registration and clearance information by 1600 EDT on 11 March 2005 and have received approval will be allowed to attend the IOOS Industry Day on 18 March 2005.

SUPPLEMENTARY INFORMATION: The IOOS is intended to be a “user-driven” integrated network that includes ocean observatories, data telemetry, data management and communications, systems and data analysis and modeling tools that reliably and continuously provide the data and information that is required to achieve the seven IOOS societal goals:

(1) Improve predictions of climate change and weather and their effects on coastal communities and the nation;

(2) Improve the safety and efficiency of marine operations;

(3) More effectively mitigate the effects of natural hazard;

(4) Improve national and homeland security;

(5) Reduce public health risks;

(6) More effectively protect and restore healthy coastal marine ecosystems; and

(7) Enable the sustained use of marine resources.

The IOOS is intended to become a national asset. IOOS may be characterized as a “network centric, system-of-systems”. This large scale network will incorporate oceanographic, meteorological and atmospheric sensors offshore and onshore, sub sea and at sea surface, the equipment and telemetry methods to transmit this data first to information system (IS) that includes the hardware, software, middleware and storage capacity to collect, analyze, archive, distribute and disseminate the IOOS data. It is intended that portals will be developed to allow contributors around the nation to input their data and that the data will be made available through graphical user interfaces (GUIs) in order that users in the private sector, academia and the government may access it. It is the goal of Ocean.US to completely characterize all components required to address these goals and solicit from industry input and best commercial practices that will help to achieve them.

Dated: February 14, 2005.
Mitchell Luxenberg,
Acting Associate Assistant Administrator for Management, Ocean Services and Coastal Zone Management, National Oceanic and Atmospheric Administration.

[FR Doc. 05-3139 Filed 2-17-05; 8:45 am]

BILLING CODE 3510-JE-M